SMALL BUSINESS ADMINISTRATION

Disaster Declaration #10701 and #10702 Louisiana Disaster Number LA-00007

AGENCY: U.S. Small Business Administration.

ACTION: Amendment 1.

SUMMARY: This is an amendment of the Presidential declaration of a major disaster for the State of Louisiana (FEMA-1668-DR), dated 11/02/2006.

Incident: Severe Storms and Flooding

Incident Period: 10/16/2006 and continuing.

EFFECTIVE DATE: 11/17/2006.

Physical Loan Application Deadline Date: 01/02/2007.

EIDL Loan Application Deadline Date: 08/02/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of LOUISIANA, dated 11/02/2006 is hereby amended to include the following areas as adversely affected by the disaster:

Primary Parishes:

Allen, Beauregard, Calcasieu, Jefferson Davis, Saint Helena, Saint Landry.

Contiguous Parishes/Counties:

Louisiana: Acadia, Cameron, East Baton Rouge, East Feliciana, Evangeline, Lafayette, Livingston, Pointe Coupee, Saint Martin, Tangipahoa, Vermilion.

Mississippi: Amite.

Texas: Orange.

All other information in the original declaration remains unchanged.

(Catalog of Federal Domestic Assistance Numbers 59002 and 9008)

Herbert L. Mitchell,
Associate Administrator for Disaster Assistance.

[FR Doc. E6-20098 Filed 11-27-06; 8:45 am]

BILLING CODE 8025-01-P